DEPARTMENT OF COMMERCE

National Oceanic and Atmospheric Administration

[I.D. 022602E]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Law Enforcement Advisory Panel (LEAP).

DATES: This meeting will be held on Wednesday, March 20, 2002, from 8:30 a.m. to 12 noon.

ADDRESSES: This meeting will be held at the Casino Magic Hotel - Biloxi, 195 East Beach Boulevard, Biloxi, MS; telephone: 228-386-4600.

Council address: Gulf of Mexico Fishery Management Council, 3018 U.S. Highway 301 North, Suite 1000, Tampa, FL 33619.

FOR FURTHER INFORMATION CONTACT: Richard Leard, Senior Fishery Biologist, Gulf of Mexico Fishery Management Council; telephone: 813-228-2815.

SUPPLEMENTARY INFORMATION: The LEAP will convene to review management options for a Secretarial Amendment to the Reef Fish Fishery Management Plan that would establish a 10-year rebuilding period for red grouper in the Gulf of Mexico. The amendment contains various options for setting sustainable fishing parameters and rebuilding strategies/scenarios. It also contains management options including quotas, trip limits, closed seasons, bag limits, and additional gear restrictions. The LEAP will also review the status regarding implementation of previous management actions taken by the Council, as well as an update of the implementation of the Cooperative 2002 Operations Plan, including Joint Enforcement Agreements (JEAs) among the Gulf states and NOAA Enforcement. Finally, the LEAP will discuss the possible development of an enforceability document that would gauge the relative ease/difficulty for enforcement of various types of management measures, and issues of safety regarding fishing around port and offshore structures, particularly oil and gas rigs.

The LEAP consists of principal law enforcement officers in each of the Gulf states as well as NMFS, the U.S. Coast Guard, and NOAA General Counsel. A copy of the agenda and related materials can be obtained by calling the Council office at 813-228-2815.

Although other non-emergency issues not on the agendas may come before the LEAP for discussion, in accordance with the Magnuson-Stevens Fishery Conservation and Management Act, those issues may not be the subject of formal action during this meetings. Actions of the LEAP will be restricted to those issues specifically identified in the agenda and any issues arising after publication of this notice that require emergency action under Section 305 (c) of the Magnuson-Stevens Act, provided the public has been notified of the Council's intent to take action to address the emergency.

Special Accommodations

This meeting is physically accessible to people with disabilities. Requests for sign language interpretation or other auxiliary aids should be directed to Anne Alford at the Council (see ADDRESSES) by March 13, 2002.

Dated: March 1, 2002.
Richard W. Surdi,
Acting Director, Office of Sustainable Fisheries, National Marine Fisheries Service.

[FR Doc. 02-5320 Filed 3-5-02; 8:45 am]

BILLING CODE 3510-22-S